DEPARTMENT OF DEFENSE

Department of the Navy

Privacy Act of 1974; System of Records

AGENCY: Department of the Navy, DoD.

ACTION: Notice to amend a system of records.

SUMMARY: The Department of the Navy is amending a system of records notice in its existing inventory of records systems subject to the Privacy Act of 1974, (5 U.S.C. 552a), as amended.

DATES: This proposed action will be effective without further notice on April 23, 2004 unless comments are received which result in a contrary determination.

ADDRESSES: Send comments to Department of the Navy, PA/FOIA Policy Branch, Chief of Naval Operations, N09B10, 2000 Navy Pentagon, Washington, DC 20350-2000.

FOR FURTHER INFORMATION CONTACT: Mrs. Doris Lama at (202) 685-6545 or DSN 325-6545.

SUPPLEMENTARY INFORMATION: The Department of the Navy systems of records notices subject to the Privacy Act of 1974, (5 U.S.C. 552a), as amended, have been published in the Federal Register and are available from the address above.

The specific changes to the records systems being amended are set forth below followed by the notices, as amended, published in their entirety. The proposed amendments are not within the purview of subsection (r) of the Privacy Act of 1974, (5 U.S.C. 552a), as amended, which requires the submission of a new or altered system report.

Dated: March 18, 2004.
L.M. Bynum,
Alternate OSD Federal Register Liaison Officer, Department of Defense.

N05100-4

System name:

Occupational Injuries/Illnesses Log (May 9, 2003, 68 FR 24973).

Changes:

System identifier:

Delete entry and replace with ‘NM051004’.

System name:

Delete entry and replace with ‘WESS Occupational Injuries/Illnesses System.’

* * * * *

Categories of individuals covered by the system:

Delete entry and replace with ‘Department of Navy (DoN) military and civilian personnel, non-appropriated and foreign national civilian personnel, and DoD military personnel attached to DoN components, who are involved in accidents or occupational illnesses that result in lost time, government or private property damage or destruction, and personnel injury or death.’

Categories of records in the system:

Delete entry and replace with ‘The system contains a civilian/military indicator, event reference number, case or file number, unit identification code (UIC), activity name, major command code, last name, first name and middle initial, department, sex, age, job title, marital status and number of dependents, rank/rate/grade, Social Security Number, date of mishap/illness, time of mishap/illness, general location of mishap/illness, lost workday count, injury/illness type, Occupational Safety and Health Administration (OSHA) code, part(s) of body injured, mishap/illness type, object involved (injury source), process control number (job/activity at time of mishap), chemical involved, chemical comments, formal training involved; case type (fatality, lost time, no lost time, first aid), mishap class, date of death, short narrative, start date, sent date, and claims information. The database also contains causal, 72-hour profile, involved chemical, involved sharp items, drug factors, licenses and certifications, safety course, personal protective equipment, dive log, dive saturation, dive treatment, parachute jump, vehicle, and insertion/extraction/scaling technique information as is applicable to the type of mishap the individual is involved in.’

Authority for maintenance of the system:

Delete entry and replace with ‘10 U.S.C. 5013, Secretary of the Navy; 10 U.S.C. 5041, Headquarters, Marine Corps; E.O. 9397 (SSN); E.O. 12196, Occupational Safety and Health Programs for Federal Employees; DoD Instruction 6055.7, Accident Investigation, Reporting, and Record Keeping; OPNAVINST 5102.1 series, Mishap Investigation and Reporting; and MCO P5102.1B. Marine Corps Ground Mishap Investigation and Reporting Manual.’

Purpose(s):

Delete entry and replace with ‘To collect information on injuries and occupational illnesses required of Federal governmental agencies by the Occupational Safety and Health Administration (OSHA). The summary data of occupational injuries or illnesses maintained in this system will be used for analytical purposes to improve the Department of the Navy's accident prevention policies, procedures, standards, and operations, as well as ensure internal data quality assurance.’

* * * * *

Record source categories:

Delete entry and replace with ‘Safety Investigation Reports, departmental records such as personnel file excerpts, medical record excerpts, State and Federal records, and excerpts of police reports, witness statements and general correspondence.’

* * * * *

NM05100-4

System name:

WESS Occupational Injuries/Illnesses System.

System location:

Organizational elements of the Department of the Navy. Official mailing addresses are published in the Standard Navy Distribution List that is available at http://neds.nebt.daps.mil/sndl.htm.

Categories of individuals covered by the system:

Department of the Navy (DoN) military and civilian personnel, non-appropriated and foreign national civilian personnel, and DoD military personnel attached to DoN components, who are involved in accidents or occupational illnesses that result in lost time, government or private property damage or destruction, and personnel injury or death.

Categories of records in the system:

The system contains a civilian/military indicator, event reference number, case or file number, unit identification code (UIC), activity name, major command code, last name, first name and middle initial, department, sex, age, job title, marital status and number of dependents, rank/rate/grade, Social Security Number, date of mishap/illness, time of mishap/illness, general location of mishap/illness, lost workday count, injury/illness type, Occupational Safety and Health Administration (OSHA) code, part(s) of body injured, mishap/illness type, object involved (injury source), process control number (job/activity at time of mishap), chemical involved, chemical comments, formal training involved; case type (fatality, lost time, no lost time, first aid), mishap class, date of death, short narrative, start date, sent date, and claims information. The database also contains causal, 72-hour profile, involved chemical, involved sharp items, drug factors, licenses and certifications, safety course, personal protective equipment, dive log, dive saturation, dive treatment, parachute jump, vehicle, and insertion/extraction/scaling technique information as is applicable to the type of mishap the individual is involved in.

Authority for maintenance of the system:

10 U.S.C. 5013, Secretary of the Navy; 10 U.S.C. 5041, Headquarters, Marine Corps; E.O. 9397 (SSN); E.O. 12196, Occupational Safety and Health Programs for Federal Employees; DoD Instruction 6055.7, Accident Investigation, Reporting, and Record Keeping; OPNAVINST 5102.1 series, Mishap Investigation and Reporting; and MCO P5102.1B, Marine Corps Ground Mishap Investigation and Reporting Manual.

Purpose(s):

To collect information on injuries and occupational illnesses required of Federal governmental agencies by the Occupational Safety and Health Administration (OSHA). The summary data of occupational injuries or illnesses maintained in this system will be used for analytical purposes to improve the Department of the Navy's accident prevention policies, procedures, standards, and operations, as well as ensure internal data quality assurance.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ that appear at the beginning of the navy's compilation of systems of records notices apply to this system.

Policies and practices for storing, retrieving, accessing, retaining, and disposing of records in the system:

Storage:

Paper and electronic records.

Retrievability:

By individual's name, Social Security Number, location of the accident or illness, or date of mishap or illness.

Safeguards:

File cabinets and computer terminals are located in limited access areas and handled by personnel that are properly trained in working with automated Privacy Act systems of records. Computer terminals are password protected.

Retention and disposal:

Naval Safety Center computerized records are maintained for 20 fiscal years following the end of the fiscal year to which they relate. All other records held outside of the Naval Safety Center are maintained for five years following the end of the fiscal year to which they relate and then destroyed.

System manager(s) and address:

Policy Official: Commander, Naval Safety Center, 375 A Street, Norfolk, VA 23511-4399.

Record Holder: Organizational elements of the Department of the Navy. Official mailing addresses are published in the Standard Navy Distribution List that is available at http://neds.nebt.daps.mil/sndl.htm.

Notification procedure:

Individuals seeking to determine whether information about themselves is contained in this system should address written inquiries to the commanding Officer of the local activity where the mishap or injury occurred.

The request should contain full name, Social Security Number and address of the individual concerned and should be signed.

Record access procedures:

Individuals seeking access to information about themselves contained in this system should address written inquiries to the Commanding Officer of the local activity where the mishap or injury occurred.

The request should contain full name, Social Security Number and address of the individual concerned and should be signed.

Contesting record procedures:

The Navy's rules for accessing records, and for contesting contents and appealing initial agency determinations are published in Secretary of the Navy Instruction 5211.5; 32 CFR part 701; or may be obtained from the system manager.

Record source categories:

Safety Investigation Reports, departmental records such as personnel file excerpts, medical record excerpts, State and Federal records, and excerpts of police reports, witness statements and general correspondence.

Exemptions claimed for the system:

None.

[FR Doc. 04-6491 Filed 3-23-04; 8:45 am]

BILLING CODE 5001-06-M